FEDERAL RESERVE SYSTEM

Change in Bank Control Notices; Acquisitions of Shares of a Savings and Loan Holding Company

The notificants listed below have applied under the Change in Bank Control Act (12 U.S.C. 1817(j)) and the Board's Regulation LL (12 CFR part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 12, 2011.

A. Federal Reserve Bank of Cleveland (Nadine Wallman, Vice President) 1455 East Sixth Street, Cleveland, Ohio 44101-2566:

1. Timothy T. O'Dell IRA, Thad R. Perry, Susanne G. Perry, Marie-Luise Marx, and Richard M. Mershad, Trustee, for the Richard M. Mershad Revocable Trust, all of New Albany, Ohio; Robert E. Hoeweler IRA, Paula Hoeweler IRA, and Robert E. and Paula L. Hoeweler, all of Cincinnati, Ohio; Donal H. Malenick and Michael W. Lenhart, both of Naples, Florida; James H. Frauenberg, II, George K. Richards, Trustee of the George K. Richards Trust, Deborah Phillips Bower, MOCORP, LLC, Moberger LTD, and Ohio Indemnity Company of Columbus, all of Columbus, Ohio; Eric G. Leininger, Upper Arlington, Ohio; Robert C. Moberger, Dublin, Ohio; Dynalab, LLC, Reynoldsburg, Ohio; and Pozzolana Consulting, LLC, Gainesville, Florida; to acquire voting shares of Central Federal Corporation, and thereby indirectly acquire voting share of CF Bank, both in Fairlawn, Ohio.

Board of Governors of the Federal Reserve System, November 22, 2011.
Robert deV. Frierson,
Deputy Secretary of the Board.

[FR Doc. 2011-30483 Filed 11-25-11; 8:45 am]

BILLING CODE 6210-01-P